DEPARTMENT OF COMMERCE

National Oceanic and Atmospheric Administration

[I.D. 071306I ]

Endangered Species; Permit Nos. 1579, 1555, and 1545

AGENCY: National Marine Fisheries Service (NMFS), National Oceanic and Atmospheric Administration (NOAA), Commerce.

ACTION: Notice; Issuance of permits.

SUMMARY: Notice is hereby given that the following groups have been issued scientific research or enhancement permits to take shortnose sturgeon (Acipenser brevirostrum):

Alden Research Laboratory, Inc. (Edward P. Taft, Responsible Party), 30 Shrewsbury Street, Holden, MA 01520 (Permit No. 1579);

David J. Stier, Springfield Science Museum, 220 State Street, Springfield, MA 01103 (Permit No. 1555); and

North Carolina Zoological Park (John D. Groves, Principal Investigator), 4401 Zoo Parkway, Asheboro, NC 27205 (Permit No. 1545).

ADDRESSES: The permit and related documents are available for review upon written request or by appointment in the following offices:

All documents: Permits, Conservation and Education Division, Office of Protected Resources, NMFS, 1315 East-West Highway, Room 13705, Silver Spring, MD 20910; phone (301)713-2289; fax (301)427-2521;

For Permit Nos. 1579 and 1555: Northeast Region, NMFS, One Blackburn Drive, Gloucester, MA 01930-2298; phone (978)281-9328; fax (978)281-9394; and

For Permit No. 1545: Southeast Region, NMFS, 263 13th Avenue South, St. Petersburg, FL 33701; phone (727)824-5312; fax (727)824-5309.

FOR FURTHER INFORMATION CONTACT: Kate Swails or Jennifer Skidmore at (301)713-2289.

SUPPLEMENTARY INFORMATION: The requested permits have been issued under the authority of the Endangered Species Act of 1973, as amended (ESA; 16 U.S.C. 1531 et seq.) and the regulations governing the taking, importing, and exporting of endangered and threatened species (50 CFR parts 222-226).

Permit No. 1579: On May 26, 2006, notice was published in the Federal Register (71 FR 30385) that a request for a scientific research permit to take shortnose sturgeon had been submitted by Alden Research Laboratory, Inc. Alden will perform research on entrainment and impingement rates for selected bar rack and bypass configurations in attempt to identify design criteria for a downstream passage facility at the Hadley Falls Hydroelectric Project on the Connecticut River. The applicant will use captive-bred sturgeon and all testing will take place in the Alden Lab testing flume. During the first year of the permit up to 70 sturgeon will be transported from hatcheries, measured, handled, Passive Integrated Transponder tagged, and participate in the flume testing. During the remaining four years up to 200 sturgeon will participate in the study annually. At the end of the five-year study the sturgeon will be sacrificed.

Permit Nos. 1555 and 1545: On November 4, 2005 and November 10, 2005, notice was published in the Federal Register (70 FR 67141 and 70 FR 68398) that requests for enhancement permits to take shortnose sturgeon had been submitted by David Steir and the North Carolina Zoological Park (John D. Groves, Principal Investigator), respectively. Mr. Steir will obtain and use five captive-bred, non-releaseable juvenile shortnose sturgeon from the Silvio O. Conte Anadramous Fish Research Center in Turners Falls, MA. The North Carolina Zoological Park will use ten captive-bred, non-releaseable shortnose sturgeon from the U.S. Fish and Wildlife Service's Warm Springs National Fish Hatchery for the purposes of educational display. The proposed projects to display endangered cultured shortnose sturgeon respond directly to a recommendation from the NMFS recovery plan outline for this species. These sturgeon displays will be used to increase public awareness of the shortnose sturgeon and its status. The proposed projects will educate the public on shortnose sturgeon life history and the reasons for the species decline. The permits are issued for 5 years.

Issuance of these permits, as required by the ESA, was based on a finding that these permits (1) Were applied for in good faith, (2) will not operate to the disadvantage of such endangered or threatened species, and (3) are consistent with the purposes and policies set forth in section 2 of the ESA.

Dated: August 1, 2006.
P. Michael Payne,
Chief, Permits, Conservation and Education Division, Office of Protected Resources, National Marine Fisheries Service.

[FR Doc. E6-12755 Filed 8-4-06; 8:45 am]

BILLING CODE 3510-22-S